DEPARTMENT OF LABOR

Occupational Safety and Health Administration

[Docket No. OSHA-2008-0013]

Announcement of a Meeting of the Advisory Committee on Construction Safety and Health (ACCSH) and ACCSH Work Groups

AGENCY: Occupational Safety and Health Administration (OSHA), Department of Labor.

ACTION: Announcement of a meeting of the Advisory Committee on Construction Safety and Health (ACCSH) and ACCSH Work Groups.

SUMMARY: ACCSH will meet May 15-16, 2008, in Washington, DC. ACCSH Work Groups will meet May 13-14, 2008.

DATES: ACCSH Meeting: ACCSH will meet from 8:30 a.m. to 5 p.m., Thursday, May 15, 2008, and from 8:30 a.m. to noon, Friday, May 16, 2008.

ACCSH Work Groups: ACCSH Work Groups will meet May 13-14, 2008.

Submission of comments, requests to speak to ACCSH and requests for special accommodation: Comments, requests to speak and requests for special accommodation must be submitted (postmarked, sent, received) by May 1, 2008.

ADDRESSES: ACCSH Meeting: ACCSH will meet in Room N-3437A-D at the U.S. Department of Labor, 200 Constitution Avenue, NW., Washington, DC 20210.

ACCSH Work Group Meetings: ACCSH Work Groups will meet in Rooms N-3437A-D at the U.S. Department of Labor, 200 Constitution Avenue, NW., Washington, DC 20210.

Submission of comments, requests to speak at the ACCSH meeting and requests for special accommodation: Interested parties may submit comments, requests to speak and requests for special accommodation by mail, hand delivery, express mail, messenger, courier service, telephone (requests for special accommodations only), FAX (if submission does not exceed 10 pages), or e-mail to Ms. Veneta Chatmon, OSHA, Office of Communications, Room N-3647, U.S. Department of Labor, 200 Constitution Avenue, NW., Washington, DC 20210; telephone (202) 693-1999; FAX (202) 693-1635; e-mail chatmon.veneta@dol.gov.

Instructions: All submissions and requests to speak must include the Agency name and the docket number for this meeting (Docket No. OSHA-2008-0013). Because of security-related procedures, submissions by regular mail may result in a significant delay in their receipt.

All submissions, including personal information, are placed in the public docket without change and may be available online. Therefore, OSHA cautions you about submitting certain personal information such as social security numbers and birthdates. For further information on submitting comments, requests to speak and requests for public accommodation, see the Public Participation information in the SUPPLEMENTARY INFORMATION section of this notice.

FOR FURTHER INFORMATION CONTACT: For press inquiries: Ms. Jennifer Ashley, OSHA, Office of Communications, Room N-3647, U.S. Department of Labor, 200 Constitution Avenue, NW., Washington, DC 20210; telephone (202) 693-1999.

For general information about ACCSH and ACCSH meetings: Mr. Michael Buchet, OSHA, Directorate of Construction, Room N-3468, U.S. Department of Labor, 200 Constitution Avenue, NW., Washington, DC 20210; telephone (202) 693-2020; e-mail buchet.michael@dol.gov.

For information about submitting comments or requests to speak to ACCSH, and for special accommodations for the meeting: Ms. Veneta Chatmon, OSHA, Office of Communications, Room N-3647, U.S. Department of Labor, 200 Constitution Avenue, NW., Washington, DC 20210; telephone (202) 693-1999; e-mail chatmon.veneta@dol.gov.

SUPPLEMENTARY INFORMATION:

ACCSH Meeting

ACCSH will meet May 15-16, 2008, in Washington, DC. The meeting is open to the public.

ACCSH is authorized to advise the Assistant Secretary of Labor for Occupational Safety and Health in the formulation of standards affecting the construction industry and on policy matters arising in the administration of the safety and health provisions of the Contract Work Hours and Safety Standards Act (Construction Safety Act) (40 U.S.C. 3701, 3704) and the Occupational Safety and Health Act of 1970 (29 U.S.C. 651 et seq.). (See also, 29 CFR 1911.10 and 1912.3).

The agenda for this meeting includes:

• ACCSH's consideration of and recommendations on the following proposed rules:

○ Porta Count Respirator Fit Test Protocol;

○ Clarification of Remedy for Violation of Requirements To Provide Personal Protective Equipment and Train Employees;

• Construction Standards Update—OSHA, Directorate of Construction (DOC);

• Mast Climbing Scaffold Investigations, Lessons Learned—OSHA, Office of Engineering Services, DOC;

• Cooperative Programs Update—OSHA Challenge, Voluntary Protection Program, and recent construction partnerships—OSHA, Directorate of Cooperative and State Programs;

• Consultation data discussion—OSHA, Directorate of Evaluation and Analysis; and

• Construction Update—NIOSH, Construction Coordinator.

All ACCSH meetings, as well as those of its Work Groups, are open to the public. Individuals needing special accommodations for the ACCSH meeting or ACCSH Work Group meetings should contact Ms. Chatmon by May 1, 2008 (see ADDRESSES section).

ACCSH meetings are transcribed and detailed minutes of the meetings are prepared. Meeting transcripts and minutes are included in the official record of ACCSH meetings.

ACCSH Work Groups

In conjunction with the ACCSH meeting, the following ACCSH Work Groups will meet:

• Diversity—9 to 11:30 a.m., May 13, 2008;

• Trenching—9 to 11:30 a.m., May 13, 2008;

• Multilingual—1 to 3:30 p.m., May 13, 2008;

• ROPS (Rollover Protective Systems)—1 to 3:30 p.m., May 13, 2008;

• Focused Inspection Initiative—9 to 11:30 a.m., May 14, 2008;

• Residential Fall Protection—9 to 11:30 a.m., May 14, 2008;

• Silica—9 to 11:30 a.m., May 14, 2008;

• OTI (OSHA Training Institute)—1 to 3:30 p.m., May 14, 2008.

For additional information on ACCSH Work Group meetings or participating in them, please contact Mr. Michael Buchet at the address above or look on the ACCSH page on OSHA's Web page at http://www.osha.gov.

Public Participation

Submission of written comments and requests to address ACCSH. Interested parties may request to make oral presentations to ACCSH by notifying Ms. Veneta Chatmon at the address above by May 1, 2008. The request must state the amount of time desired, the interest the presenter represents (e.g., organization name), if any, and a brief outline of the presentation. Requests to address the committee may be granted at the ACCSH Chair's discretion and as time permits.

Attendees and interested parties may also submit written data, views, or comments, preferably with 20 copies, to Ms. Chatmon at the address above by May 1, 2008. Submissions, including personal information provided, will be posted without change at http://www.regulations.gov, the Federal eRulemaking Portal. Therefore, OSHA cautions interested parties about submitting certain personal information such as birth dates and social security numbers. Because of security-related procedures, submissions by regular mail may result in a significant delay in their receipt. For more information about security procedures for making submissions, please contact Ms. Chatmon (see ADDRESSES section) or the OSHA Docket Office at Room N-2625, OSHA, U.S. Department of Labor, 200 Constitution Avenue, NW., Washington, DC 20210; telephone (202) 693-2350 (TTY number (877) 889-5627). The Department of Labor's and OSHA Docket Office's normal business hours are 8:15 a.m.-4:45 p.m., e.t.

OSHA will provide the submissions to ACCSH members and will include submissions in the official record of the meeting.

Access to the official record of ACCSH meetings, including Work Group reports. To read or download submissions or the official record of this ACCSH meeting, go to Docket No. OSHA-2008-0013 at http://www.regulations.gov. The official meeting record and all submissions for this meeting are listed in the http://www.regulations.gov index. Although listed in the index, some documents (e.g., copyrighted materials) are not publicly available to read or download through http://www.regulations.gov. The official record and all submissions, including copyrighted material, are available for inspection and copying at the OSHA Docket Office at the address above.

Meeting security procedures: Although ACCSH meetings, including Work Group meetings, are open to the public, anyone attending meetings at the U.S. Department of Labor will be required to pass through Building Security at the Visitors' Entrance at 3rd and C Streets, NW., Washington, DC 20210, in order to be admitted to the building. Attendees must have valid government issued photo identification and should allow extra time for the security process.

Authority and Signature: Edwin G. Foulke, Jr., Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3701 et seq.), 29 CFR 1911 and 1912, and Secretary of Labor's Order No. 5-2007 (72 FR 31159).

Signed at Washington, DC, this 23rd day of April 2008.
Edwin G. Foulke, Jr.,
Assistant Secretary of Labor for Occupational Safety and Health.

[FR Doc. E8-9267 Filed 4-28-08; 8:45 am]

BILLING CODE 4510-26-P